DEPARTMENT OF DEFENSE

Defense Acquisition Regulations System

[Docket Number DARS-2019-0063]

Information Collection Requirement; Covered Defense Telecommunications Equipment or Services; Request for OMB Emergency Clearance; Comment Request

AGENCY: Defense Acquisition Regulations System, Department of Defense (DoD).

ACTION: Notice.

SUMMARY: DoD is requesting the Office of Management and Budget provide emergency clearance of collections of information under the provisions of the Paperwork Reduction Act.

DATES: Consideration will be given to all comments received by January 17, 2020.

SUPPLEMENTARY INFORMATION: DoD is requesting the Office of Management and Budget (OMB) provide emergency clearance of collections of information associated with an interim rule to be published in the Federal Register under the title “Covered Defense Telecommunications Equipment or Services (DFARS Case 2018-D022).”

Consistent with 5 CFR 1320.13, DoD has determined the following conditions have been met:

a. The collection of information is needed prior to the expiration of time periods normally associated with a routine submission for review under the provisions of the Paperwork Reduction Act in view of the restrictions imposed by section 1656 of the National Defense Authorization Act (NDAA) for Fiscal year (FY) 2018 (Pub. L. 115-91), which was signed into law on December 12, 2017. Subsequently, section 889(a)(1)(A) of the NDAA for FY 2019 (Pub. L. 115-232), was signed into law on August 13, 2018, and established a similar Governmentwide prohibition. The interim DFARS rule implements the section 1656 and DoD-specific procedures associated with the section 889(a)(1)(A) prohibitions for DoD, and is structured to align with and supplement the higher-level Federal Acquisition Regulation (FAR) implementation of the section 889(a)(1)(A) Governmentwide prohibition. Immediate action is required to implement the requirements of the statutes for DoD.

b. This collection of information is essential to DoD's mission by ensuring that DoD does not procure prohibited articles. Section 1656 provides that DoD may not procure or obtain, or extend or renew a contract to procure or obtain, any equipment, system, or service to carry out the DoD nuclear deterrence or homeland defense missions that uses covered defense telecommunications equipment or services as a substantial or essential component of any system or as a critical technology as a part of any system.

c. DoD must be able to rely on the integrity and security of equipment that is critical to the DoD nuclear deterrence and homeland defense missions. The use of normal clearance procedures would prevent the collection of information from contractors in an expeditious manner with respect to national security functions of the United States.

d. DoD cannot comply with normal clearance procedures, because public harm is reasonably likely if current clearance procedures are followed. Not only would DoD components be likely to purchase and install prohibited items, agencies could incur substantial additional costs replacing such items, as well as additional administrative costs for replacement.

DoD is requesting OMB provide emergency clearance for collection of the required information for a period of six months. Public comments on the information collection will be requested in the interim rule, which will be published in the Federal Register.

Jennifer Lee Hawes,
Regulatory Control Officer, Defense Acquisition Regulations System.

[FR Doc. 2019-27170 Filed 12-17-19; 8:45 am]

BILLING CODE 6820-ep-P